DEPARTMENT OF HEALTH AND HUMAN SERVICES

Centers for Disease Control and Prevention

[Docket No. CDC-2019-0002]

Advisory Committee on Immunization Practices (ACIP); Correction

AGENCY: Centers for Disease Control and Prevention (CDC), Department of Health and Human Services (HHS).

ACTION: Notice of meeting with comment period; correction.

SUMMARY: On January 28, 2019, the Centers for Disease Control and Prevention (CDC) in the Department of Health and Human Services (HHS) published a notice announcing the next meeting of the Advisory Committee on Immunization Practices on February 27-28, 2019 in Atlanta, GA. The notice did not include the docket number for public comment or instructions for submitting public comment. This notice provides that information for the public.

DATES: The meeting will be held on February 27-28, 2019 at the CDC Tom Harkin Global Communication Center, Centers for Disease Control and Prevention Headquarters (Building 19), Room 232, 1600 Clifton Road NE, Atlanta, GA 30329. Written comments must be received on or before March 2, 2019.

ADDRESSES: You may submit comments, identified by Docket No. CDC-2019-0002 by any of the following methods:

• Federal eRulemaking Portal: http://www.regulations.gov. Follow the instructions for submitting comments.

• Mail: Centers for Disease Control and Prevention, 1600 Clifton Rd. NE, Mailstop A-27, Atlanta, GA 30329-4027.

Instructions: All submissions received must include the agency name and Docket Number.

Instructions: All relevant comments received will be posted without change to http://regulations.gov, including any personal information provided. For access to the docket to read background documents or comments received, go to http://www.regulations.gov.

FOR FURTHER INFORMATION CONTACT: Stephanie Thomas, ACIP Committee Management Specialist, National Center for Immunization and Respiratory Diseases, Centers for Disease Control and Prevention, telephone 404-639-8836, email ACIP@cdc.gov.

SUPPLEMENTARY INFORMATION: In accordance with the Federal Advisory Committee Act, the Centers for Disease Control and Prevention (CDC), announces the following meeting of the Advisory Committee on Immunization Practices (ACIP). This meeting is open to the public, limited only by room seating. The meeting room accommodates 216 for public seating. Rooms 245, 246, and 247, adjacent to the meeting room, will be available once the meeting room reaches capacity, providing up to 120 additional seats. Time will be available for public comment. The meeting will be webcast live via the World Wide Web; for instructions and more information on ACIP please visit the ACIP website: http://www.cdc.gov/vaccines/acip/index.html. Written public comments submitted by 72 hours prior to the ACIP meeting will be provided to the ACIP members before the meeting.

Public Participation

Interested persons or organizations are invited to participate by submitting written views, recommendations, and data. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully review and consider all comments submitted to the docket.

Matters To Be Considered

The agenda will include discussions on human papillomavirus vaccines, pneumococcal vaccines, Japanese encephalitis vaccines, influenza vaccines, anthrax vaccine, hepatitis vaccines, Pertussis vaccine, herpes zoster vaccine, and meningococcal vaccines. A recommendation vote is scheduled for anthrax vaccine and Japanese encephalitis vaccines. Agenda items are subject to change as priorities dictate. For more information on the meeting agenda visit https://www.cdc.gov/vaccines/acip/meetings/meetings-info.html.

The Chief Operating Officer, Centers for Disease Control and Prevention, has been delegated the authority to sign Federal Register notices pertaining to announcements of meetings and other committee management activities, for both the Centers for Disease Control and Prevention and the Agency for Toxic Substances and Disease Registry.

Dated: January 30, 2019.
Sherri Berger,
Chief Operating Officer, Centers for Disease Control and Prevention.

[FR Doc. 2019-01958 Filed 2-11-19; 8:45 am]

BILLING CODE 4163-18-P